DEPARTMENT OF JUSTICE

Drug Enforcement Administration

[Docket No. DEA-683]

Bulk Manufacturer of Controlled Substances Application: AMPAC Fine Chemicals Virginia, LLC

Editorial Note: Notice document 2020-16100, which should have published Friday, July 24, 2020, did not appear in that issue. We are republishing it here in its entirety.

ACTION: Notice of application.

DATES: Registered bulk manufacturers of the affected basic class(es), and applicants therefore, may file written comments on or objections to the issuance of the proposed registration on or before September 28, 2020.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on March 16, 2020, AMPAC Fine Chemicals Virginia, LLC, 2820 North Normandy Drive, Petersburg, Virginia 23805-2380, applied to be registered as a bulk manufacturer of the following basic class(es) of controlled substances:

Controlled substance | Drug code | Schedule
Methylphenidate | 1724 | II
Levomethorphan | 9210 | II
Levorphanol | 9220 | II
Morphine | 9300 | II
Thebaine | 9333 | II
Noroxymorphone | 9668 | II
Tapentadol | 9780 | II

The company plans to manufacture the above-listed controlled substances in bulk for distribution to its customers. No other activities for these drug codes are authorized for this registration.

William T. McDermott,
Assistant Administrator.

[FR Doc. R1-2020-16100 Filed 7-27-20; 8:45 am]

BILLING CODE 1301-00-D